DEPARTMENT OF AGRICULTURE

Agricultural Marketing Service

7 CFR Part 205

[Doc. No. AMS-NOP-21-0073]

RIN 0581-AE06

National Organic Program; Organic Livestock and Poultry Standards

AGENCY: Agricultural Marketing Service, USDA.

ACTION: Proposed rule; extension of public comment period.

SUMMARY: On August 9, 2022, the Agricultural Marketing Service (AMS) published proposed amendments to the United States Department of Agriculture (USDA) organic regulations, with a 60-day comment period ending on October 11, 2022. The proposed rule would amend organic livestock and poultry production requirements. In response to multiple requests, AMS is announcing an extension of the public comment period by an additional 30 calendar days.

DATES: The deadline for receipt of comments on the proposed rule published on August 9, 2022, at 87 FR 48562, is extended until November 10, 2022.

ADDRESSES: Interested persons may comment on this proposed rule using one of the following methods:

• Federal eRulemaking Portal: You may submit comments on the proposed rule, identified by AMS-NOP-21-0073, by electronic submission. Go to https://www.regulations.gov and enter AMS-NOP-21-0073 in the Search box. Click the “Comment” icon, complete the required fields, and enter or attach your comments.

• Mail: AMS strongly prefers comments be submitted electronically. However, written comments may be submitted (i.e., postmarked) via mail to Erin Healy, Standards Division, National Organic Program, USDA-AMS-NOP, Room 2646-So., Ag Stop 0268, 1400 Independence Ave. SW, Washington, DC 20250-0268. Mailed comments must be postmarked by November 10, 2022.

All comments received are a part of the public record and will generally be posted for public viewing on https://www.regulations.gov without change. All personal identifying information (e.g., name, address, etc.), confidential business information, or otherwise sensitive information submitted voluntarily by the sender will be publicly accessible (enter “N/A” in the required fields if you wish to remain anonymous).

Docket: To access the docket, including the Draft Regulatory Impact Analysis/Initial Regulatory Flexibility Analysis, other background documents, and comments, go to https://www.regulations.gov (search for docket “AMS-NOP-21-0073”).

FOR FURTHER INFORMATION CONTACT: Erin Healy, Standards Division, National Organic Program, USDA-AMS-NOP, Room 2646-So., Ag Stop 0268, 1400 Independence Ave. SW, Washington, DC 20250-0268; Telephone: (202) 617-4942. Email: erin.healy@usda.gov.

SUPPLEMENTARY INFORMATION: On August 9, 2022, AMS published proposed changes to the USDA organic regulations for organic livestock and poultry production (87 FR 48562). The proposed changes would address a range of topics related to the care of organic livestock, including:

• Livestock health care practices—the proposed rule would specify which physical alteration procedures are prohibited or restricted for use on organic livestock. The proposed livestock health care practice standards include requirements for euthanasia to reduce suffering of any sick or disabled livestock;

• Living conditions—the proposed rule would set separate standards for mammalian and avian livestock living conditions to better reflect the needs and behaviors of the different species, as well as related consumer expectations. The proposed mammalian livestock standards would cover both ruminants and swine. The proposed avian livestock living standards would set maximum indoor and outdoor stocking densities to ensure the birds have sufficient space to engage in natural behaviors;

• Transport of animals—the proposed rule would add new requirements on the transport of organic livestock to sale or slaughter;

• Slaughter—the proposed rule would add a new section to clarify how organic slaughter facility practices and USDA Food Safety and Inspection Service (FSIS) regulations work together to support animal welfare.

During the comment period, AMS received multiple requests for additional time to prepare and submit comments. Having considered the requests, AMS is extending the comment period for an additional 30 days to provide further opportunity for public comment. This extension provides a total of 90 days for public input. We encourage members of the public to submit comments on the proposed amendments, implementation options, and AMS's analysis of the proposed rule (see 87 FR 48564).

Erin Morris,
Associate Administrator, Agricultural Marketing Service.

[FR Doc. 2022-22011 Filed 10-7-22; 8:45 am]

BILLING CODE P